ENVIRONMENTAL PROTECTION AGENCY

40 CFR Part 228

[FRL-9948-49-Region 1]

Ocean Disposal; Proposed Designation of a Dredged Material Disposal Site in Eastern Region of Long Island Sound; Reopening of Public Comment Period

AGENCY: Environmental Protection Agency (EPA).

ACTION: Notice; reopening of the public comment period.

SUMMARY: The Environmental Protection Agency (EPA) today is reopening the public comment period on the proposed rule and Supplemental Environmental Impact Statement to designate one dredged material disposal site, the Eastern Long Island Sound Disposal Site (ELDS), located offshore from New London, Connecticut, for the disposal of dredged material from harbors and navigation channels in eastern Long Island Sound in the states of Connecticut and New York. The proposed rule published on April 27, 2016 (81 FR 24748). This action is necessary to provide a long-term, open-water dredged material disposal site as an alternative for the possible future disposal of such material.

DATES: Comments must be received on or before July 18, 2016.

ADDRESSES: Written comments should be sent to ELIS@epa.gov.

FOR FURTHER INFORMATION CONTACT: Ms. Jean Brochi, U.S. Environmental Protection Agency, New England Regional Office, 5 Post Office Square, Suite 100, Mail Code: OEP06-1, Boston, MA 02109-3912, telephone: (617) 918-1536, fax number: (617) 918-0536; email address: Brochi.Jean@epa.gov or ELIS@epa.gov.

SUPPLEMENTARY INFORMATION:

Public Review of Documents: The file supporting this proposed designation is available for inspection at the following locations:

In person. The Proposed Rule and the DSEIS, which includes the Site Management and Monitoring Plan (SMMP) for the ELDS, as well as the U.S. Army Corps of Engineers' Dredged Material Management Plan (DMMP) and Programmatic Environmental Impact Statement (PEIS), are available for inspection at the EPA Region 1 Library, Five Post Office Square, Boston, MA, 02109.

Electronically. You may also review and/or obtain electronic copies of these documents and various other supporting documents from EPA's Web site: https://www.epa.gov/ocean-dumping/dredged-material-management-long-island-sound.

List of Subjects in 40 CFR Part 228

Environmental protection, Water pollution control.

Dated: June 21, 2016.
H. Curtis Spalding,
Regional Administrator, EPA Region 1—New England.

[FR Doc. 2016-15299 Filed 6-27-16; 8:45 am]

BILLING CODE 6560-50-P